DEPARTMENT OF HEALTH AND HUMAN SERVICES

Office of the Secretary

[Document Identifier: OS-0990-New]

Agency Information Collection Activities: Proposed Collection; Comment Request; 60-day notice

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection.

Title of Information Collection: The National Evaluation of the Rural/Frontier Women's Health Coordinator Center Program.

Form/OMB No.: 0990—New.

Use: The Department of Health and Human Services Office on Women's Health (OWH) is seeking clearance to conduct data collection efforts as part of the National Evaluation of the Rural/Frontier Coordinating Center (RFCC) program. The Office on Women's Health funded the creation of three RFCCs in September 2004, and awarded eight additional RFCC contracts in fiscal year 2005. The impetus for creating the RFCCs was to, “identify, coordinate, and leverage the network of existing resources to provide a full range of culturally and linguistically appropriate health services to women and their families. To effectively meet the numerous health care needs of this diverse population, rural health providers must not only offer comprehensive health care services but also integrate these services to maximize awareness, access, and quality. RFCCs were created to accomplish this task. Evaluating the effectiveness of RFCCs is essential for determining whether these centers are the best vehicles for “coordinating and leveraging new and existing resources for women's health in rural and frontier communities.” The OWH is seeking to evaluate all eleven RFCCs. This evaluation will also enable the OWH to determine how well RFCCs are facilitating access to integrated and comprehensive primary care services to women and their families residing in rural and frontier regions of the U.S.

Frequency: Report on Occasion.

Affected Public: Not-for-profit institutions.

Annual Number of Respondents: 833.

Total Annual Responses: 833.

Average Burden per Response: 34 minutes.

Total Annual Hours: 472.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 60 days, and directed to the OS Paperwork Clearance Officer at the following address:Department of Health and Human Services, Office of the Secretary, Assistant Secretary for Resources and Technology,Office of Resources Management,Attention: Sherrette Funn-Coleman (0990-NEW),Room 537-H,200 Independence Avenue, SW.,Washington DC 20201.

Dated: January 29, 2007.
Alice Bettencourt,
Office of the Secretary,Paperwork Reduction Act Reports Clearance Officer.

[FR Doc. E7-2185 Filed 2-8-07; 8:45 am]

BILLING CODE 4150-33-P